DEPARTMENT OF TRANSPORTATION

Surface Transportation Board

[Docket No. FD 35778]

CSX Transportation, Inc.—Trackage Rights Exemption—Glasgow Railway Company

Pursuant to a written trackage rights agreement, Glasgow Railway Company (Glasgow) has agreed to grant overhead and local trackage rights to CSX Transportation, Inc. (CSXT) over the entire rail line of Glasgow, between milepost 00E-90.85, at Park City, Ky., and milepost 00E-101.00, at Glasgow, Ky., a distance of approximately 10.15 miles, including all sidings, yard tracks, and yard leads now existent or hereafter constructed along or at the end of the line.¹

¹ A redacted trackage rights agreement between CSXT and Glasgow was filed with the notice of exemption. An unredacted version was filed under seal along with a motion for protective order, which will be addressed in a separate decision.

The transaction is scheduled to be consummated on or after November 22, 2013, the effective date of the exemption (30 days after the exemption was filed).

According to CSXT, the purpose of the transaction is to enable it to serve local and overhead traffic on the line.

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed by November 15, 2013 (at least 7 days before the exemption becomes effective).

An original and 10 copies of all pleadings, referring to Docket No. FD 35778, must be filed with the Surface Transportation Board, 395 E Street SW., Washington, DC 20423-0001. In addition, a copy of each pleading must be served on Louis E. Gitomer, Law Offices of Louis E. Gitomer, LLC, 600 Baltimore Avenue, Suite 301, Towson, MD 21204.

Board decisions and notices are available on our Web site at “WWW.STB.DOT.GOV.”

Decided: November 4, 2013.
By the Board, Rachel D. Campbell, Director, Office of Proceedings.
Jeffrey Herzig,
Clearance Clerk.

[FR Doc. 2013-26838 Filed 11-7-13; 8:45 am]

BILLING CODE 4915-01-P